ENVIRONMENTAL PROTECTION AGENCY

[FRL-9677-8]

Proposed Agreement Pursuant to the Comprehensive Environmental Response, Compensation, and Liability Act for the Wabash Environmental Technologies Site

AGENCY: Environmental Protection Agency (“EPA”).

ACTION: Notice; Request for public comment on proposed CERCLA 122(h)(1) agreement with 21 parties for the Wabash Environmental Technologies Superfund Site.

SUMMARY: In accordance with section 122(i)(1) of the Comprehensive Environmental Response, Compensation and Liability Act of 1980, as amended (“CERCLA”), notification is hereby given of a proposed administrative agreement concerning the Wabash Environmental Technologies hazardous waste site in Terre Haute, Indiana (the “Site”). EPA proposes to enter into this agreement under the authority of section 122(h) and 107 of CERCLA. The proposed agreement has been executed by: AAA Galvanizing of Dixon, Inc.; Brenntag Mid-South, Inc. (successor to G.S. Robins & Co. and Ulrich Chemical, Inc.); Chemetall US, Inc., fka Oakite Products Inc.; City of Terre Haute Board of Public Works and Safety; ConAgra Foods Inc.; Elixir Industries; Enviromark Corporation; General Electric Company on behalf of GE Silicones and Momentive Performance Materials, Inc.; Glas-Col LLC; Interplastic Corporation; Marathon Pipe Line LLC; Northern Indiana Public Service Company; Perma-Fix of Dayton, Inc./Perma-Fix Environmental Services, Inc.; The Proctor & Gamble Manufacturing Company; Rochester Midland Corporation; Rock-Tenn Company on behalf of Smurfit-Stone; Speedway LLC (formerly known as Speedway SuperAmerica LLC); Superior Oil Company, Inc.; Superior Oil Company, Inc. for Superior Fiberglass & Resins; Technicote, Inc.; and Weatherford International. (the “Settling Parties”).

Under the proposed agreement, the Settling Parties will pay a total of $710,053.43 to the Hazardous Substances Superfund to resolve EPA's claims against the Settling Parties for response costs incurred by EPA at the Site. EPA has incurred response costs investigating and performing response actions at the Site to mitigate potential imminent and substantial endangerments to human health or the environment presented or threatened by hazardous substances present at the Site.

For thirty days following the date of publication of this notice, the EPA will receive written comments relating to this proposed agreement. EPA will consider all comments received and may decide not to enter this proposed agreement if comments disclose facts or considerations which indicate that the proposed agreement is inappropriate, improper or inadequate.

DATES: Comments on the proposed agreement must be received by EPA on or before June 25, 2012.

ADDRESSES: Comments should be addressed to the Docket Clerk, U.S. Environmental Protection Agency, Region 5, 77 West Jackson Boulevard, Chicago, Illinois 60604-3590, and should refer to: In the Matter of Wabash Environmental Technologies Site, Chicago, Illinois, U.S. EPA Docket No. V-W-12C-997.

FOR FURTHER INFORMATION CONTACT: Thomas J. Krueger, U.S. Environmental Protection Agency, Office of Regional Counsel, C-14J, 77 West Jackson Boulevard, Chicago, Illinois 60604-3590, (312) 886-0562.

A copy of the proposed administrative settlement agreement may be obtained in person or by mail from the EPA's Region 5 Office of Regional Counsel, 77 West Jackson Boulevard, Chicago, Illinois 60604-3590. Additional background information relating to the settlement is available for review at the EPA's Region 5 Office of Regional Counsel.

Authority: The Comprehensive Environmental Response, Compensation, and Liability Act, as amended, 42 U.S.C. Sections 9601-9675.

Dated: May 16, 2012.
Richard C. Karl,
Director, Superfund Division, Region 5.

[FR Doc. 2012-12792 Filed 5-24-12; 8:45 am]

BILLING CODE 6560-50-P